DEPARTMENT OF DEFENSE

Department of the Army

Notice of Availability (NOA) of the Record of Decision (ROD) for the Transformation of the 172nd Infantry Brigade (Separate), U.S. Army Alaska (USARAK)

AGENCY: Department of the Army, DoD.

ACTION: Notice of availability.

SUMMARY: This announces the availability of the ROD for the transformation of the 172nd Infantry Brigade, USARAK. The ROD documents and explains the Army's decision to proceed with full transformation of USARAK forces at Fort Wainwright (FWA), Fort Richardson (FRA), and outlying training areas (e.g., Gerstle River Training Area and Black Rapids Training Site). This decision was based on the analysis described in the Final Environmental Impact Statement (EIS), supporting studies, and comments provided during formal comment and review periods.

ADDRESSES: If you have questions regarding the ROD, or would like a copy, please contact Mr. Kevin Gardner, Directorate of Public Works, 730 Quartermaster Road, Attention: APVR-RPW-GS (Gardner), Fort Richardson, AK 99505-6500; or Mr. Calvin Bagley, Center for Environmental Management of Military Lands (CEMML), Colorado State University, Fort Collins, CO 80523-1490.

FOR FURTHER INFORMATION CONTACT: Mr. Kevin Gardner by phone at (907) 384-3331; by facsimile at (907) 384-3028; or by email at kevin.gardner@richardson.army.mil; or Mr. Calvin Bagley by phone at (970) 491-3324; by facsimile at (970) 491-2713; or by email at cbagley@cemml.colostate.edu. Information is also contained at http://www.cemml.colostate.edu/alaskaeis.

SUPPLEMENTARY INFORMATION: The Department of the Army has decided to proceed with the full transformation of USARAK forces at Fort Wainwright (FWA), Fort Richardson (FRA), and outlying training areas (e.g., Gerstle River Training Area and Black Rapids Training Site). The decision includes: (1) Transformation of the 172nd Infantry Brigade (Separate) to a Stryker Brigade Combat Team (SBCT); (2) assignment of the 1-501st Parachute Infantry Regiment to USARAK and a subsequent expansion into an airborne-capable Brigade Combat Team (Unit of Action); (3) assignment of additional personnel to the newly created SBCT and the airborne-capable Brigade Combat Team (Unit of Action); (4) a significant increase in personnel and equipment in USARAK; (5) construction of four new SBCT-related facilities at USARAK; (6) increased use of existing USARAK ranges, facilities, and infrastructure; (7) implementation and budgeting of environmental and cultural management, monitoring and mitigation programs identified in the EIS.

Changes to force structure and stationing, and increased use of ranges, facilities, and infrastructure will occur. In addition, new systems will be acquired. The Stryker, an eight-wheeled light armored vehicle designed to increase ground mobility and firepower, will be used on USARAK lands. In addition, the unmanned aerial vehicle (UAV) will be utilized for reconnaissance or surveillance training missions. Training will be designed to support the missions of transformed USARAK organizations, and increased use of land and impact areas for live-fire and maneuver training is expected.

A copy of the ROD is available at http://www.cemml.colostate.edu/alaskaeis.

Dated: July 21, 2004.
Raymond J. Fatz,
Deputy Assistant Secretary of the Army (Environment, Safety and Occupational Health) OASA (I&E).

[FR Doc. 04-17212 Filed 7-28-04; 8:45 am]

BILLING CODE 3710-08-M